DEPARTMENT OF TRANSPORTATION

Federal Aviation Administration

14 CFR Part 39

[Docket No. FAA-2008-1201; Directorate Identifier 2008-NM-007-AD]

RIN 2120-AA64

Airworthiness Directives; Airbus Model A310 Series Airplanes

AGENCY: Federal Aviation Administration (FAA), Department of Transportation (DOT).

ACTION: Notice of proposed rulemaking (NPRM).

SUMMARY: The FAA proposes to supersede an existing airworthiness directive (AD) that applies to certain Airbus Model A310 series airplanes. The existing AD currently requires repetitive inspections of the fuselage skin to detect corrosion or fatigue cracking around and under the chafing plates of the wing root; repetitive inspections for fatigue cracking of frame 39, stringer 35; and corrective actions if necessary. The existing AD also provides for an optional terminating action for certain repetitive inspections, except for certain areas where corrosion was detected and reworked. This proposed AD would reduce the intervals for accomplishing repetitive inspections in a certain area. This proposed AD results from mandatory continuing airworthiness information originated by an aviation authority of another country to identify and correct an unsafe condition on an aviation product. We are proposing this AD to detect and correct fatigue cracks and corrosion around and under the chafing plates of the wing root, which could result in reduced structural integrity of the airplane.

DATES: We must receive comments on this proposed AD by December 15, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2008-1201; Directorate Identifier 2008-NM-007-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 29, 2004, we issued AD 2004-14-06, amendment 39-13715 (69 FR 41401, July 9, 2004), for certain Airbus Model A310 series airplanes. That AD requires repetitive inspections of the fuselage skin to detect corrosion or fatigue cracking around and under the chafing plates of the wing root; and corrective actions, if necessary. The existing AD also provides for an optional terminating action for repetitive inspections, except for certain areas where corrosion was detected and reworked. That AD resulted from reports of the presence of corrosion under the chafing plates and around the fasteners of the wing root between fuselage frames 36 and 39. We issued that AD to detect and correct fatigue cracks and corrosion around and under the chafing plates of the wing root, which could result in reduced structural integrity of the airplane.

Actions Since Existing AD Was Issued

Since we issued AD 2004-14-06, the European Aviation Safety Agency (EASA), which is the Technical Agent for the Member States of the European Community, has informed us that, as a result of A310 extended service goal activities, the repetitive intervals for existing repetitive inspections in a certain area, as required by AD 2004-14-06, must be reduced to adequately address the identified unsafe condition.

Relevant Service Information

Airbus has issued Revision 06 of Service Bulletin A310-53-2069, dated May 22, 2007 (AD 2004-14-06 refers to Airbus Service Bulletin A310-53-2069, Revision 1, dated September 19, 1995, through Revision 05, dated November 12, 2002, as appropriate sources of service information for accomplishing the required inspections and corrective actions). The inspection and corrective actions procedures specified in Revision 06 are essentially identical to those specified in Revision 1 through Revision 05. Revision 06 reduces the thresholds and repetitive intervals for the inspections that are required after corrosion has been found and reworked. The new thresholds range between 70 and 28,000 flight cycles or between 250 and 103,500 flight hours, whichever occurs first, depending on the depth of the rework. The new intervals range between 70 and 17,300 flight cycles or between 250 and 63,900 flight hours, whichever occurs first. No additional work is required by Revision 06 for airplanes inspected in accordance with Revision 1 through Revision 05. Accomplishing the actions specified in the service information is intended to adequately address the unsafe condition. The EASA mandated Service Bulletin A310-53-2069, Revision 06, and issued airworthiness directive 2007-0292, dated November 27, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2004-14-06 and would continue to require repetitive inspections of the fuselage skin to detect corrosion or fatigue cracking around and under the chafing plates of the wing root; repetitive inspections for fatigue cracking of frame 39, stringer 35; and corrective actions if necessary. This proposed AD also would continue to provide for an optional terminating action for certain repetitive inspections, except for certain areas where corrosion was detected and reworked. In addition, this proposed AD would reduce the intervals for accomplishing the repetitive inspections in a certain area.

Differences Between Proposed AD and Service Bulletin

Revision 06 of Service Bulletin A310-53-2069 specifies to contact the manufacturer for thresholds and repeat intervals for inspections under certain conditions, but this proposed AD would require those intervals be approved by the FAA or the EASA (or its delegated agent). In light of the type of inspections that would be required to address the unsafe condition, and consistent with existing bilateral airworthiness agreements, we have determined that, for this proposed AD, thresholds and repetitive intervals approved by the FAA or the EASA would be acceptable for compliance with this proposed AD.

Change to Existing AD

This proposed AD would retain all requirements of AD 2004-14-06. Since AD 2004-14-06 was issued, the AD format has been revised, and certain paragraphs have been rearranged. As a result, the corresponding paragraph identifiers have changed in this proposed AD, as listed in the following table:

Revised Paragraph Identifiers
Requirement in AD 2004-14-06 | Corresponding requirement in this proposed AD
paragraph (a) | paragraph (f).
paragraph (b) | paragraph (g).
paragraph (c) | paragraph (h).
paragraph (d) | paragraph (i).
paragraph (e) | paragraph (j).

Costs of Compliance

This proposed AD would affect about 69 Model A310 series airplanes of U.S. registry.

The actions that are required by AD 2004-14-06 and retained in this proposed AD take about 68 work hours per airplane, at an average labor rate of $80 per work hour. Based on these figures, the estimated cost of the currently required actions is $375,360, or $5,440 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13715 (69 FR 41401, July 9, 2004) and adding the following new airworthiness directive (AD):

Airbus: Docket No. FAA-2008-1201; Directorate Identifier 2008-NM-007-AD.

Comments Due Date

(a) The FAA must receive comments on this AD action by December 15, 2008.

Affected ADs

(b) This AD supersedes AD 2004-14-06.

Applicability

(c) This AD applies to Airbus Model A310 series airplanes, certificated in any category, on which Airbus Modifications 8888 and 8889 have not been accomplished.

Unsafe Condition

(d) This AD results from mandatory continuing airworthiness information originated by an aviation authority of another country to identify and correct an unsafe condition on an aviation product. We are issuing this AD to detect and correct fatigue cracks and corrosion around and under the chafing plates of the wing root, which could result in reduced structural integrity of the airplane.

Compliance

(e) You are responsible for having the actions required by this AD performed within the compliance times specified, unless the actions have already been done.

Requirements of AD 2004-14-06

Repetitive Inspections and Corrective Actions

(f) Except as provided by paragraphs (g), (k), and (l) of this AD: Within 4 years since date of manufacture, or within 12 months after June 3, 1998 (the effective date of AD 98-09-20, amendment 39-10501), whichever occurs later, perform an inspection to detect discrepancies around and under the chafing plates of the wing root, in accordance with the Accomplishment Instructions of Airbus Service Bulletin A310-53-2069, Revision 05, dated November 12, 2002; Revision 04, dated November 8, 2000; Revision 03, dated October 28, 1997; Revision 2, dated September 23, 1996; or Revision 1, dated September 19, 1995. If any discrepancy is found, prior to further flight, accomplish follow-on corrective actions (i.e., removal of corrosion, corrosion protection, high frequency eddy current inspection, x-ray inspection), as applicable, in accordance with the applicable service bulletin. Repeat the inspections thereafter at the intervals specified in the applicable service bulletin. After August 13, 2004 (the effective date of AD 2004-14-06), repeat the inspections thereafter at the intervals specified in Revision 04 or Revision 05 of the service bulletin.

(g) If any discrepancy is found during any inspection required by paragraph (f) of this AD, and Airbus Service Bulletin A310-53-2069, Revision 06, dated May 22, 2007; Revision 05, dated November 12, 2002; Revision 04, dated November 8, 2000; Revision 03, dated October 28, 1997; Revision 2, dated September 23, 1996; or Revision 1, dated September 19, 1995; as applicable; specifies to contact Airbus for appropriate action: Prior to further flight, repair in accordance with a method approved by the Manager, International Branch, ANM-116, FAA, Transport Airplane Directorate. Where differences in the compliance times or corrective actions exist between the service bulletin and this AD, the AD prevails.

Optional Terminating Action

(h) Except as provided by paragraph (i) of this AD: Accomplishment of the replacement of the stainless steel chafing plates with new chafing plates made of aluminum alloy, in accordance with Airbus Service Bulletin A310-53-2070, Revision 2, dated November 8, 2000; Revision 1, dated September 23, 1996; or the original issue, dated October 3, 1994; constitutes terminating action for the repetitive inspections required by paragraph (f) of this AD.

Continuation of Repetitive Inspections

(i) Except as provided by paragraphs (k) and (l) of this AD: Within 30 days after August 13, 2004, do a review of the airplane maintenance records to determine if any corrosion was detected and reworked on the left and/or right side of frame 39, stringer 35, during the accomplishment of any corrective action or repair specified in paragraphs (f) or (g) of this AD. If any corrective action or repair has been accomplished in this area, perform an inspection for fatigue cracking of frame 39, stringer 35, in accordance with the Accomplishment Instructions of Airbus Service Bulletin A310-53-2069, Revision 05, dated November 12, 2002; or Revision 04, dated November 8, 2000. Do the initial inspection at the threshold specified in Figure 1 of the service bulletin, or within 30 days after August 13, 2004, whichever is later. Repeat the inspection thereafter at the intervals specified in Figure 1 of the service bulletin. If any discrepancy is found, prior to further flight, accomplish the applicable follow-on corrective actions, in accordance with the Accomplishment Instructions of the service bulletin.

Submission of Information Not Required

(j) Although the service bulletins referenced in this AD specify to submit information to the manufacturer, this AD does not include such a requirement.

New Actions Required by This AD

New Service Bulletin Revision

(k) As of the effective date of this AD, use only the Accomplishment Instructions of Airbus Service Bulletin A310-53-2069, Revision 06, dated May 22, 2007, to do the inspections and corrective actions required by paragraphs (f) and (i) of this AD.

Repetitive Inspections at Frame FR39, Stringer 35 at Reduced Intervals

(l) As of the effective date of this AD, if any corrosion is found at frame FR39, stringer 35, during any inspection required by this AD, do the repetitive inspections required by paragraphs (f) and (i) of this AD, as applicable, at the earlier of the times specified in paragraphs (l)(1) and (l)(2) of this AD. Repeat the inspections thereafter at intervals specified in Figure 1, Sheets 4 and 5, of Airbus Service Bulletin A310-53-2069, Revision 06, dated May 22, 2007, except as provided by paragraph (m) of this AD.

(1) At the next specified repeat interval specified in paragraph (f) of this AD.

(2) At the later of the times specified in paragraphs (l)(2)(i) and (l)(2)(ii) of this AD, except as provided by paragraph (m) of this AD.

(i) At the applicable threshold specified in Figure 1, Sheets 4 and 5, of Airbus Service Bulletin A310-53-2069, Revision 06, dated May 22, 2007.

(ii) Within 900 flight cycles or 1,800 flight hours after the effective date of this AD, whichever occurs first.

(m) Where Figure 1, Sheets 4 and 5, of Airbus Service Bulletin A310-53-2069, Revision 06, dated May 22, 2007, specifies to contact Airbus, do the inspections at threshold and repeat intervals approved by either the Manager, International Branch, ANM-116, Transport Airplane Directorate, FAA; or the European Aviation Safety Agency (EASA) (or its delegated agent).

Alternative Methods of Compliance (AMOCs)

(n) The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

Related Information

(o) European Aviation Safety Agency (EASA) airworthiness directive 2007-0292, dated November 27, 2007, also addresses the subject of this AD.

Issued in Renton, Washington, on November 4, 2008.
Stephen P. Boyd,
Assistant Manager, Transport Airplane Directorate, Aircraft Certification Service.

[FR Doc. E8-26914 Filed 11-12-08; 8:45 am]

BILLING CODE 4910-13-P